DEPARTMENT OF HOMELAND SECURITY

Coast Guard

[Docket No. USCG-2019-0877]

National Merchant Mariner Medical Advisory Committee; Initial Solicitation for Members

AGENCY: U.S. Coast Guard, DHS.

ACTION: Request for applications.

SUMMARY: The Coast Guard is requesting applications from persons interested in serving as a member of the National Merchant Mariner Medical Advisory Committee (“Committee”). This recently established Committee advises the Secretary of the Department of Homeland Security on matters relating to: Medical certification determinations for the issuance of licenses, certification of registry, and merchant mariners' documents with respect to merchant mariners; medical standards and guidelines for the physical qualifications of operators of commercial vessels; medical examiner education; and medical research. Please read this notice for a description of 14 Committee positions we are seeking to fill.

DATES: Completed application should reach the Coast Guard on or before July 27, 2020.

ADDRESSES: Applicants should send a cover letter expressing interest in an appointment to the National Merchant Mariner Medical Advisory Committee and a resume detailing their experience. We will not accept a biography. Applications should be submitted via one of the following methods:

• By Email (preferred): Michael.W.Lalor@uscg.mil. Subject Line: N-MEDMAC

• By Fax: 202-372-4908; ATTN: Michael Lalor, Alternate Designated Federal Officer; or

• By Mail: Michael Lalor, Alternate Designated Federal Officer, Commandant (CG-MMC-2), U.S. Coast Guard Stop 7509, 2703 Martin Luther King Jr Ave SE, Washington, DC 20593-7509

FOR FURTHER INFORMATION CONTACT: Michael Lalor, Alternate Designated Federal Officer of the Merchant Mariner Medical Advisory Committee; Telephone 202-372-2357; or Email at MMCPolicy@uscg.mil.

SUPPLEMENTARY INFORMATION: The National Merchant Mariner Medical Advisory Committee is a Federal advisory committee. It will operate under the provisions of the Federal Advisory Committee Act, 5 U.S.C Appendix 2, and the administrative provisions in § 601 of the Frank LoBiondo Coast Guard Authorization Act of 2018 (specifically, 46 U.S.C. 15109).

The Committee was established on December 4, 2019, by the Frank LoBiondo Coast Guard Authorization Act of 2018, which added § 15104, National Merchant Mariner Medical Advisory Committee, to Title 46 of the U.S. Code (46 U.S.C. 15104). The Committee will advise the Secretary of Homeland Security on matters relating to (1) medical certification determinations for the issuance of licenses, certificates of registry, and merchant mariners' documents with respect to merchant mariners; (2) medical standards and guidelines for the physical qualifications of operators of commercial vessels; (3) medical examiner education; and (4) medical research.

The Committee is required to hold meetings at least once a year in accordance with 46 U.S.C. 15109(a). We expect the Committee to meet at least twice a year, but it may meet more frequently. The meetings are generally held in cities that have high concentrations of maritime personnel and related marine industry businesses.

All members serve at their own expense and receive no salary or other compensation from the Federal Government. Members may be reimbursed, however, for travel and per diem in accordance with Federal Travel Regulations.

Under 46 U.S.C. 15109(f) (6), membership terms expire on December 31st of the third full year after the effective date of appointment. The Secretary may require an individual to have passed an appropriate security background examination before appointment to the Committee, 46 U.S.C. 15109(f) (4).

In this initial solicitation for Committee members, we will consider applications for all positions, which include:

• Nine health-care professionals who have particular expertise, knowledge, and experience regarding the medical examinations of merchant mariners or occupational medicine; and

• Five professional mariners who have particular expertise, knowledge, and experience in occupational requirements for mariners.

Registered lobbyists are not eligible to serve on Federal Advisory Committees in an individual capacity. See “Revised Guidance on Appointment of Lobbyists to Federal Advisory Committees, Boards and Commissions” (79 FR 47482, August 13, 2014). Registered lobbyists are “lobbyists,” as defined in Title 2 U.S.C. 1602, who are required by Title 2 U.S.C. 1603 to register with the Secretary of the Senate and the Clerk of the House of Representatives.

The Department of Homeland Security does not discriminate in the selection of Committee members based on race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Mr. Michael Lalor, Alternate Designated Federal Officer of the National Merchant Mariner Medical Advisory Committee via one of the transmittal methods in the ADDRESSES section by the deadline in the DATES section of this notice. If you send your application to us via email, we will send you an email confirming receipt of your application.

Dated: May 20, 2020.
Jeffrey G. Lantz,
Director of Commercial Regulations and Standards.

[FR Doc. 2020-11298 Filed 5-26-20; 8:45 am]

BILLING CODE 9110-04-P